Title 3—

The President

Presidential Determination No. 2008-17 of March 28, 2008

Determinations Under Section 1106(a) of the Omnibus Trade and Competitiveness Act of 1988—Ukraine

Memorandum for the United States Trade Representative

Pursuant to section 1106(a) of the Omnibus Trade and Competitiveness Act of 1988 (19 U.S.C. 2905(a)) (the “Act”), I determine that state trading enterprises account for a significant share of Ukraine's exports and goods that compete with imports into Ukraine. I further determine that such state trading enterprises unduly burden and restrict, or adversely affect, the foreign trade of the United States or the United States economy, or are likely to result in such burden, restriction, or effect.

Ukraine is seeking to become a member of the World Trade Organization (WTO). The terms and conditions for Ukraine's accession to the WTO include Ukraine's commitments that it will ensure that all state trading enterprises will make purchases of goods and services that are not intended for governmental use, and sales in international trade in accordance with commercial considerations (including price, quality, availability, marketability, and transportation) and that U.S. firms will have an adequate opportunity, in conformity with customary practice, to compete for such purchases or sales.

The obligations that Ukraine will assume under the WTO Agreement, including Ukraine's protocol of accession, meet the requirements of section 1106(b)(2)(A) of the Act (19 U.S.C. 2905(b)(2)(A)), and thus my determinations under section 1106(a) do not require invocation of the nonapplication provisions of the Marrakesh Agreement Establishing the WTO with regard to Ukraine.

You are directed to publish this determination in the Federal Register.

THE WHITE HOUSE,

Washington, March 28, 2008.

[FR Doc. 08-1087

Filed 3-31-08; 8:53 am]

Billing code 3190-01-M